DEPARTMENT OF TRANSPORTATION

Office of the Secretary

Application of Dynamic Airways, LLC d/b/a Dynamic Aviation for Certificate Authority

AGENCY: Department of Transportation.

ACTION: Notice of Order to Show Cause (Order 2010-9-17); Docket DOT-OST-2010-0058.

SUMMARY: The Department of Transportation is directing all interested persons to show cause why it should not issue an order finding Dynamic Airways, LLC d/b/a Dynamic Aviation, fit, willing, and able, and awarding it a certificate of public convenience and necessity to engage in interstate charter air transportation of persons, property and mail.

DATES: Persons wishing to file objections should do so no later than October 1, 2010.

ADDRESSES: Objections and answers to objections should be filed in Docket DOT-OST-2010-0058 and addressed to U.S. Department of Transportation, Docket Operations, (M-30, Room W12-140), 1200 New Jersey Avenue, SE., West Building Ground Floor, Washington, DC 20590, and should be served upon the parties listed in Attachment A to the order.

FOR FURTHER INFORMATION CONTACT: Scott A. Faulk, Air Carrier Fitness Division (X-56, Room W86-487), U.S. Department of Transportation, 1200 New Jersey Avenue, SE., Washington, DC 20590, (202) 366-9721.

Dated: September 17, 2010.
Susan L. Kurland,
Assistant Secretary for Aviation and International Affairs.

[FR Doc. 2010-23787 Filed 9-22-10; 8:45 am]

BILLING CODE P